DEPARTMENT OF HOMELAND SECURITY

[Docket No: DHS-2025-0027]

Notice of Availability of a Draft Programmatic Environmental Assessment for the Nationwide Operation of Counter Unmanned Aircraft Systems

AGENCY: Department of Homeland Security.

ACTION: Notice of availability; request for comments.

SUMMARY: The Department of Homeland Security (DHS) announces the availability of a draft programmatic environmental assessment (PEA) and its draft finding that the research, development, testing, and evaluation (RDT&E) of counter unmanned aircraft systems (C-UAS), and nationwide C-UAS operational and training activities will not significantly impact the environment. The draft PEA will inform DHS's decision whether to perform such activities with C-UAS nationwide.

DATES: Comments must be submitted on or before September 3, 2025.

ADDRESSES: The draft PEA and draft Finding of No Significant Impact (FONSI) are available on DHS's website at: https://www.dhs.gov/ocrso/eed/epb/nepa.

Comments may be submitted by either of the following methods:

• Regulations.gov web portal: Navigate to https://www.regulations.gov and search for Docket No. DHS-2025-0027 to submit public comments. Follow the online instructions for submitting comments. All public comments received are subject to the Freedom of Information Act and will be posted in their entirety at this site and available for public viewing. Do not include any information you would not like to be made publicly available.

• By email: Emailed comments should be sent to: Jennifer Hass, Acting Executive Director, Energy and Environment Division, at EED-EP@hq.dhs.gov.

All comments received may be made publicly available without change, including any personal information provided.

FOR FURTHER INFORMATION CONTACT: Jennifer Hass, Acting Executive Director, Energy and Environment Division, Department of Homeland Security at EED-EP@hq.dhs.gov or by phone at 202-834-4346.

SUPPLEMENTARY INFORMATION:

Proposed Action: DHS proposes to perform RDT&E of C-UAS, and conduct operational and training activities to support existing and emerging DHS mission requirements nationwide. C-UAS are a system or device capable of tracking, disabling, disrupting, or seizing control of an unmanned aircraft or unmanned aircraft system (UAS). UAS have become a security concern in recent years due to the ease with which they can aid in intelligence gathering and be used for malicious activities. DHS has been granted statutory authority under the Preventing Emerging Threats Act of 2018 to counter credible threats from UAS to the safety or security of a covered facility or asset, which are designated based on their importance to the security missions of DHS and Components. DHS prepared the subject Draft PEA to streamline the review process and review duplicative, lengthy reviews for repetitive C-UAS actions that may be broadly analyzed given their similar scopes.

The purpose of the Proposed Action is to support ongoing and proposed RDT&E of C-UAS technologies and to deploy C-UAS in operational and training settings to detect, identify, monitor, track, and mitigate (passively and actively) threats posed by UAS, including across the radio-frequency spectrum, using a streamlined approach to environmental analysis and documentation. The Proposed Action is needed to enhance DHS's ability to use C-UAS technologies, monitor emerging threats, protect DHS's missions, and defend the Nation from UAS threats and malicious activity. The use of C-UAS would support existing and emerging mission requirements of the various Components within DHS and facilitate their services and strategies essential to the Nation's security, safety, and emergency response.

The Draft PEA evaluates the potential environmental, cultural, socioeconomic, and physical impacts associated with DHS's Proposed Action.

Alternatives: In addition to the Proposed Action Alternative, which would implement the Proposed Action, DHS considered a No Action Alternative. Under the No Action Alternative, DHS would continue to use C-UAS to counter threats as authorized under the Preventing Emerging Threats Act of 2018 on a project-by-project basis. However, DHS would be limited in its ability to carry out critical mission objectives and respond to potential threats in a streamlined, efficient manner.

Draft Finding of No Significant Impact: The evaluation performed within this draft PEA concludes that no significant adverse impact to the environmental or quality of life is anticipated as a result of implementing the Proposed Action, provided that routine best management practices specified in the draft PEA are implemented.

Request for Public Review: Federal agencies; Tribal, state, and local governments, the public; and other interested parties are requested to provide input or comments on the draft PEA, which will be available for a 30-day public comment period. Comments must be submitted on or before September 3, 2025. For information on how to submit, see the ADDRESSES section above. A mailing address to submit hardcopy comments can be provided upon request.

Availability of the Draft PEA: The draft PEA and draft FONSI are available on DHS's website at: https://www.dhs.gov/ocrso/eed/epb/nepa/public-comment.

(Authority: National Environmental Policy Act (NEPA) of 1969 (42 U.S.C. 4321 et seq.), DHS Management Directive 023-01, rev. 01 (Implementation of NEPA), and DHS Instruction Manual 023-01-001-01, rev. 01 (Implementation of the NEPA).)

Jennifer Hass,
Acting Executive Director, Energy and Environment Division, Office of the Chief Readiness Support Officer, Department of Homeland Security.

[FR Doc. 2025-14658 Filed 8-1-25; 8:45 am]

BILLING CODE 9112-FF-P